FEDERAL MARITIME COMMISSION

Sunshine Act Meetings

Time and Date: February 10, 2010—10 a.m.

Place: 800 North Capitol Street, NW., First Floor Hearing Room, Washington, DC.

Status: The meeting will be in Open Session.

Matters to be Considered:

Open Session

1. Docket No. 06-01: Worldwide Relocations, Inc.; et al.,—Possible Violations of Sections 8, 10, and 19 of the Shipping Act of 1984 and the Commission's Regulations at 46 CFR 515.3, 515.21, and 520.3—Request for Extension of Time.

2. Docket No. 08-04: Tienshan, Inc. v. Tianjin Hua Feng Transport Agency Co., Ltd—Request for Extension of Time.

3. FY 2010 Budget Status Update.

4. Petition P1-08—Petition of the National Customs Brokers and Forwarders Association of America, Inc. for Exemption from Mandatory Rate Tariff Publication.

Contact Person for More Information: Karen V. Gregory, Secretary, (202) 523-5725.

Karen V. Gregory,
Secretary.

[FR Doc. 2010-2616 Filed 2-4-10; 4:15 pm]

BILLING CODE P